DEPARTMENT OF COMMERCE

International Trade Administration

[A-533-883]

Glycine From India: Final Results of Antidumping Duty Administrative Review; 2022-2023

AGENCY: Enforcement and Compliance, International Trade Administration, Department of Commerce.

SUMMARY: The U.S. Department of Commerce (Commerce) determines that producers and/or exporters subject to this administrative review made sales of subject merchandise below normal value during the period of review (POR) June 1, 2022, through May 31, 2023.

DATES: Applicable April 15, 2025.

FOR FURTHER INFORMATION CONTACT: Tyler Weinhold, AD/CVD Operations, Office VI, Enforcement and Compliance, International Trade Administration, U.S. Department of Commerce, 1401 Constitution Avenue NW, Washington, DC 20230; telephone: (202) 482-1121.

SUPPLEMENTARY INFORMATION:

Background

On July 5, 2024, Commerce published the Preliminary Results of the 2022-2023 administrative review of the antidumping duty order on glycine from India.¹ On July 22, 2024, Commerce tolled the deadline to issue the final results in this administrative review by seven days.² On November 7, 2024, Commerce extended the deadline for these final results to January 8, 2025.³ On December 9, 2025, Commerce tolled the deadline for these final results by 90 days.⁴ Accordingly, the deadline for these final results is now April 8, 2025. Commerce conducted this administrative review in accordance with section 751 of the Tariff Act of 1930, as amended (the Act). For a complete description of the events that followed the Preliminary Results, see the Issues and Decision Memorandum.⁵

¹ See Glycine from India: Preliminary Results and Rescission, In Part, of Antidumping Duty Administrative Review; 2022-2023, 89 FR 55565 (July 5, 2024) (Preliminary Results), and accompanying Preliminary Decision Memorandum.

² See Memorandum, “Tolling of Deadlines for Antidumping and Countervailing Duty Proceedings,” dated July 22, 2024.

³ See Memorandum, “Glycine from India: Extension of Deadline for Final Results of Antidumping Duty Administrative Review,” dated November 7, 2024.

⁴ See Memorandum, “Tolling of Deadlines for Antidumping and Countervailing Duty Proceedings,” dated December 9, 2024.

⁵ See Memorandum, “Issues and Decision Memorandum for Final Results of Antidumping Duty Administrative Review of Glycine from India; 2022-2023,” dated concurrently with, and hereby adopted by, this notice (Issues and Decision Memorandum).

Scope of the Order ⁶

⁶ See Glycine from India and Japan: Amended Final Affirmative Antidumping Duty Determination and Antidumping Duty Orders, 84 FR 29170 (June 21, 2019) (Order).

The merchandise subject to the Order is glycine from India. For a complete description of the scope of this Order, see the Issues and Decision Memorandum.⁷

⁷ See Issues and Decision Memorandum at 2.

Analysis of Comments Received

All issues raised in the case and rebuttal briefs filed by interested parties in this administrative review are addressed in the Issues and Decision Memorandum. A list of the issues addressed in the Issues and Decision Memorandum is attached to this notice as an appendix. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties on the Preliminary Results, we find it appropriate to apply a dumping margin based on facts available to Kumar Industries (Kumar), in accordance with section 776(a)) of the Act, because necessary information is not available on the record, Kumar withheld requested information, failed to provide such information by the established deadlines, and significantly impeded this proceeding. Further, Commerce determines that an adverse inference is warranted in selecting from among the facts otherwise available pursuant to section 776(b) of the Act because Kumar failed to cooperate to the best of its ability. As a result, we have also revised the rate assigned to the company not selected for individual examination, Bajaj Healthcare Limited, as explained below. For further discussion, see the Issues and Decision Memorandum.

Rate for Non-Selected Respondent

The statute and Commerce's regulations do not address what rate to apply to respondents not selected for individual examination when Commerce limits its examination in an administrative review pursuant to section 777A(c)(2) of the Act. Generally, Commerce looks to section 735(c)(5) of the Act, which provides instructions for calculating the all-others rate in an investigation, for guidance when calculating the rate for non-selected respondents that are not examined individually in an administrative review.

Section 735(c)(5)(A) of the Act states that the all-others rate should be calculated by averaging the weighted-average dumping margins for individually-examined respondents, excluding rates that are zero, de minimis, or based entirely on facts available. When the rates for individually examined companies are all zero, de minimis, or based entirely on facts available, section 735(c)(5)(B) of the Act provides that Commerce may use any reasonable method to establish the all-others rate.

In these Final Results, we calculated a zero percent dumping margin for Avid Organics Private Limited (Avid) and we based Kumar's dumping margin entirely on facts available with adverse inferences. Therefore, we assigned to the non-selected respondent, Bajaj Healthcare Limited, a rate equal to the simple average of the dumping margins for Avid and Kumar, consistent with the guidance in section 735(c)(5)(B) of the Act.⁶

Final Results of Review

We determine that the following estimated weighted-average dumping margins exist for the POR June 1, 2022, through May 31, 2023:

Producer/exporter | Weighted- average dumping margin (percent)
Avid Organics Private Limited | 0.00
Kumar Industries | * 57.17
Bajaj Healthcare Limited | 28.59
* Rate based on facts available with adverse inferences.

Disclosure

Commerce intends to disclose its calculations and analysis performed to interested parties in the final results of this administrative review within five days of any public announcement or, if there is no public announcement, within five days of the date of publication of this notice, in accordance with 19 CFR 351.224(b).

Assessment Rates

Pursuant to section 751(a)(2)(C) of the Act and 19 CFR 351.212(b)(1), Commerce shall determine, and U.S. Customs and Border Protection (CBP) shall assess, antidumping duties on all appropriate entries of subject merchandise in accordance with the final results of this administrative review. For any individually examined respondent whose weighted-average dumping margin is above de minimis (i.e., 0.50 percent), we calculated importer-specific assessment rates on the basis of the ratio of the total amount of antidumping duties calculated for each importer's examined sales and the total entered value of the sales, in accordance with 19 CFR 351.212(b)(1).⁸ Where either a respondent's weighted-average dumping margin is zero or de minimis, or an importer-specific assessment rate is zero or de minimis, we will instruct CBP to liquidate appropriate entries without regard to antidumping duties.⁹ For entries of subject merchandise during the POR produced by any of these companies for which it did not know its merchandise was destined for the United States, we will instruct CBP to liquidate such entries at the all-others rate if there is no rate for the intermediate company(ies) involved in the transaction.¹⁰

⁸ See Antidumping Proceedings: Calculation of the Weighted-Average Dumping Margin and Assessment Rate in Certain Antidumping Proceedings: Final Modification, 77 FR 8101, 8103 (February 14, 2012).

⁹ Id., 77 FR 8102-03; see also 19 CFR 351.106(c)(2).

¹⁰ See Antidumping and Countervailing Duty Proceedings: Assessment of Antidumping Duties, 68 FR 23954 (May 6, 2003).

Commerce intends to issue assessment instructions to CBP no earlier than 35 days after the date of publication of the final results of this administrative review in the Federal Register. If a timely summons is filed at the U.S. Court of International Trade, the assessment instructions will direct CBP not to liquidate relevant entries until the time for parties to file a request for a statutory injunction has expired (i.e., within 90 days of publication). The final results of this administrative review shall be the basis for the assessment of antidumping duties on entries of merchandise under review and for future cash deposits of estimated antidumping duties, where applicable.

Cash Deposit Requirements

The following cash deposit requirements will be effective upon publication in the Federal Register of the notice of these final results of administrative review for all shipments of glycine from India entered, or withdrawn from warehouse, for consumption on or after the date of publication as provided by section 751(a)(2) of the Act: (1) the cash deposit rate for companies subject to this review will be equal to the company-specific weighted-average dumping margin established in the final results of the review; (2) for merchandise exported by a company not covered in this review but covered in a prior segment of the proceeding, the cash deposit rate will continue to be the company-specific rate published in the completed segment for the most recent period; (3) if the exporter is not a firm covered in this review, a prior review, or the original investigation but the producer is, the cash deposit rate will be the rate established in the completed segment for the most recent period for the producer of the merchandise; (4) the cash deposit rate for all other producers or exporters will continue to be 7.23 percent, the all-others rate established in the investigation of sales at less than fair value, adjusted for the export-subsidy rate in the companion countervailing duty investigation.¹¹ These cash deposit requirements, when imposed, shall remain in effect until further notice.

¹¹ See Order, 84 FR 29171.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Administrative Protective Order (APO)

This notice also serves as the only reminder to parties subject to an APO of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing these results in accordance with sections 751(a)(1) and 777(i)(1) of the Act, and 19 CFR 351.221(b)(5).

Dated: April 8, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes since the Preliminary Results

V. Application of Facts Available and Adverse Inferences

VI. Discussion of the Issues

Comment 1: Whether Commerce Should Apply Total Adverse Facts Available (AFA) to Kumar

Comment 2: Whether Commerce Should AFA to Avid

Comment 3: Whether Commerce Should Rely on Constructed Value (CV)

Comment 4: Whether Kumar Violated 18 U.S.C. 1001

VII. Recommendation

[FR Doc. 2025-06362 Filed 4-14-25; 8:45 am]

BILLING CODE 3510-DS-P